NATIONAL SCIENCE FOUNDATION

Membership of National Science Foundation's Senior Executive Service Performance Review Board

AGENCY: National Science Foundation.

ACTION: Announcement of Membership of the National Science Foundation's Senior Executive Service Performance Review Board.

SUMMARY: This announcement of the membership of the National Science Foundation's Senior Executive Service Performance Review Board is made in compliance with 5 U.S.C. 4314(c)(4).

ADDRESSES: Comments should be addressed to Director, Division of Human Resource Management, National Science Foundation, Room 315, 4201 Wilson Boulevard, Arlington, VA 22230.

FOR FURTHER INFORMATION CONTACT: Mr. Joseph F. Burt at the above address or (703) 292-8180.

SUPPLEMENTARY INFORMATION: The membership of the National Science Foundation's Senior Executive Performance Review Board is as follows:

Kathie L. Olsen, Deputy Director, Chairperson

Anthony A. Arnolie, Director, Office of Information and Resource Management and Chief Human Capital Officer

Richard A. Behnke, Head, Upper Atmosphere Research Section

Deborah L. Crawford, Deputy Assistant Director for Computer and Information Science and Engineering

Nathaniel Pitts, Director, Office of Integrative Activities

Thomas A. Weber, Director, Division of Materials Research

Dated: November 4, 2005.
Joseph F. Burt,
Director, Division of Human Resource Management.

[FR Doc. 05-22458 Filed 11-9-05; 8:45am]

BILLING CODE 7555-01-M